DEPARTMENT OF ENERGY

Federal Energy Regulatory Commission

[Docket No. RP02-393-000]

Columbia Gas Transmission Corporation; Notice of Refund Filing

July 26, 2002.

Take notice that on July 19, 2002, Columbia Gas Transmission Corporation (Columbia Gas) filed to report on the flow-back to customers of refunds received from Panhandle Eastern Pipe Line (Panhandle) under the settlement in Panhandle's Docket No. RP98-40, et al. At issue in Panhandle's docket were Kansas Ad Valorem taxes that were improperly added to the Maximum Lawful prices under the NGPA. The refund is applicable to the period October 1983 through June 1988 and is based on Columbia's purchased gas commodity volumes under Panhandle's Rate Schedules SG-1 and LS-1 for that period.

Based on the Stipulation and Agreement in Columbia's Docket No. TA82-1-21, et al, Columbia is obligated to flow-through to its customers approximately $9,000.00 of the refund received from Panhandle. This amount includes interest calculated using the FERC interest rate in accordance with the Code of Federal Regulations, Subpart F, Section 154.501(d). This amount is to be flowed-through to Columbia's former Rate Schedule CDS/WS and SGS (former wholesale customers). Columbia has allocated the refund to the applicable customers based on the allocation methodology approved pursuant to Columbia's Account 191 Close-Out filing in Docket No. RP94-158, et al.

Columbia Gas states that copies of its filing have been mailed to all affected customers.

Any person desiring to be heard or to protest said filing should file a motion to intervene or a protest with the Federal Energy Regulatory Commission, 888 First Street, NE., Washington, DC 20426, in accordance with sections 385.214 or 385.211 of the Commission's rules and regulations. All such motions or protests must be filed on or before August 2, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-19418 Filed 7-31-02; 8:45 am]

BILLING CODE 6717-01-P